OFFICE OF MANAGEMENT AND BUDGET

Request for Nominations of Experts to Peer-Review Draft Guidance on Valuing Ecosystem Services in Federal Benefit-Cost Analyses

AGENCY: Office of Management and Budget.

ACTION: Notice; request for nominations.

SUMMARY: The Office of Management and Budget (OMB) will propose draft guidance called Guidance for Assessing Changes in Environmental and Ecosystem Services in Benefit-Cost Analysis. This notice requests public nominations of experts to participate in an independent scientific peer review of this forthcoming proposed Guidance.

DATES: The 21-day public comment period to provide nominations begins May 25, 2023, and ends June 15, 2023. Nominations must be received on or before June 15, 2023.

ADDRESSES: Submit your nominations by emailing them to MBX.OMB.OIRA.ESGuidancePeerReview@omb.eop.gov (subject line: Peer Review Nomination for Ecosystem Services Guidance) no later than June 15, 2023. To receive full consideration, nominations should include all of the information requested below. Please be advised that public comments, including communications on these nominations, are subject to release under the Freedom of Information Act.

Privacy Act Statement: Submission of nominations is voluntary. Solicitation of this information is authorized by 31 U.S.C. 1111. The information furnished will be used to select independent peer reviewers to evaluate forthcoming proposed guidance entitled Guidance for Assessing Changes in Environmental and Ecosystem Services in Benefit-Cost Analysis. While the information solicited by this notice is intended to be used for internal purposes, in certain circumstances it may be necessary to disclose this information externally, for example to contractors, as necessary to perform their duties for the Federal government; to a congressional office in response to an inquiry from that congressional office made at the request of the individual to whom the record pertains; or to other agencies, courts, and persons as necessary and relevant in the course of litigation, and as necessary and in accordance with requirements for law enforcement. A complete list of the routine uses can be found in the system of records notice associated with this collection of information, OMB Public Input System of Records, OMB/INPUT/01.

FOR FURTHER INFORMATION CONTACT: Office of Information and Regulatory Affairs, Office of Management and Budget, MBX.OMB.OIRA.ESGuidancePeerReview@omb.eop.gov (subject line: Peer Review Nomination for Ecosystem Services Guidance).

SUPPLEMENTARY INFORMATION:

I. Background

Two OMB circulars provide guidance to Federal agencies on benefit-cost analyses. Circular A-4: Regulatory Analysis ¹ discusses analyses of regulations' impacts, as required under section 6(a)(3) of Executive Order (E.O.) 12866 (Regulatory Planning and Review),² the Regulatory Right-to-Know Act,³ and a variety of related authorities. Circular A-94: Guidelines and Discount Rates for Benefit-Cost Analysis of Federal Programs ⁴ discusses analyses of Federal programs or policies, decisions whether to lease or purchase, and asset valuation and sale. In April 2023, OMB proposed draft updates to both circulars.⁵ These draft updates both note the importance of analyses accounting for effects on environmental and ecosystem services, as feasible and appropriate, and reference forthcoming OMB guidance on ecosystem services for more discussion on how to conduct such analyses.⁶ E.O. 14072 section 4(b) also calls for guidance related to the valuation of ecosystem and environmental services and natural assets in Federal regulatory decision-making.⁷

¹ OMB, Circular A-4, Regulatory Analysis (Sept. 17, 2003), available at https://www.whitehouse.gov/wp-content/uploads/legacy_drupal_files/omb/circulars/A4/a-4.pdf.

² Exec. Order No. 12866, 58 FR 51735 (Oct. 4, 1993).

³ Public Law 106-554, 624, 114 Stat. 2763A-161 (codified at 31 U.S.C. 1105 note).

⁴ OMB, Circular A-94, Guidelines and Discount Rates for Benefit-Cost Analysis of Federal Programs (Oct. 29, 1992), available at https://www.whitehouse.gov/wp-content/uploads/legacy_drupal_files/omb/circulars/A94/a094.pdf.

⁵ See OMB, Draft for Public Review: Circular A-4, Regulatory Analysis (Apr. 6, 2023), available at https://www.whitehouse.gov/wp-content/uploads/2023/04/DraftCircularA-4.pdf (hereinafter Draft Circular A-4 Update); OMB, Draft for Public Review: Circular A-94, Guidelines and Discount Rates for Benefit-Cost Analysis of Federal Programs (Apr. 6, 2023), available at https://www.whitehouse.gov/wp-content/uploads/2023/04/CircularA94.pdf (hereinafter Draft Circular A-94 Update).

⁶ See Draft Circular A-4 Update 51-52 (“Many regulations will influence environmental or ecosystem services that directly impact the welfare of relevant populations. . . . Where you identify relevant ecosystem services, you should seek to monetize their impacts when feasible, quantify impacts when monetization is not feasible, and describe qualitatively impacts that are not monetized or quantified. See . . . forthcoming OMB guidance on ecosystem services for additional information and guidance.”); Draft Circular A-94 Update 8 (“Projects may directly affect or alter access to the natural environment and the benefits it provides. Analyses should account for relevant effects on ecosystem and environmental services when feasible. See forthcoming OMB guidance on ecosystem services for additional discussion on how to capture the welfare effects of ecosystem and environmental services.”).

⁷ Executive Order No. 14072, Strengthening the Nation's Forests, Communities, and Local Economies § 4(b), 87 FR 24851, 24854 (Apr. 27, 2022).

OMB is currently drafting this guidance, entitled Guidance for Assessing Changes in Environmental and Ecosystem Services in Benefit-Cost Analysis. OMB will solicit public comments on the proposed guidance. In addition, the proposed guidance will be peer reviewed. The independent, external scientific peer review will be managed by an OMB contractor. This notice requests public nominations of experts to participate in the independent scientific peer review of the forthcoming guidance on valuing ecosystem services in benefit-cost analyses consistent with Circulars A-4 and A-94.

II. Information About This Peer Review

OMB is seeking nominations of individuals with demonstrated and nationally recognized expertise in ecosystem services and natural assets. OMB seeks diverse perspectives, including relevant natural science (e.g., ecology, biology, marine sciences, or hydrology), systems science (e.g., ecosystem ecology or biogeochemistry), applied science (e.g., civil or environmental engineering), and environmental and resource economics disciplines. Nominations of individuals with expertise in multiple disciplines and perspectives are encouraged. A balanced review panel should include experts who together possess the necessary domains of knowledge and a breadth of economic and scientific perspectives to provide rigorous peer review. All nominations will be evaluated for real or perceived conflicts of interest and independence.

To form the list of candidate external reviewers, nominations submitted in response to this notice will be considered along with candidates identified using traditional techniques (e.g., a literature search) to identify additional qualified candidates in the disciplines listed above. After consideration of public nominations, a final multi-disciplinary panel of four to six peer reviewers will be selected from the pool. Selection criteria to be used for panel membership include: (a) distinguished and nationally recognized technical expertise, as well as experience; (b) availability and willingness to serve; and (c) real or perceived conflicts of interest and independence.

Process and Deadline for Submitting Nominations: Any person or organization may nominate individuals qualified in the areas described above. Self-nominations are permitted. Submit your nominations by email to MBX.OMB.OIRA.ESGuidancePeerReview@omb.eop.gov (subject line: Peer Review Nomination for Ecosystem Services Guidance). To receive full consideration, nominations should include all of the following information: contact information for the person making the nomination; the nominee's contact information and institutional affiliation; the nominee's disciplinary and specific areas of expertise; and the nominee's résumé or curriculum vitae or equivalent information about their current position, educational background, expertise, and experience. To assess conflicts of interest and independence for nominees being considered for the peer review, OMB will seek to identify, among other factors, professional affiliation with the Executive Office of the President within the last 3 years, current contracts with the Federal government to conduct regulatory impact analysis or other decision support analyses, and regular business streams to advocate for or critique regulatory impact analyses on behalf of non-federal entities.

Richard L. Revesz,
Administrator, Office of Information and Regulatory Affairs.

[FR Doc. 2023-11130 Filed 5-24-23; 8:45 am]

BILLING CODE 3110-01-P